DEPARTMENT OF ENERGY

Federal Energy Regulatory Commission

[Project No. 12796-004]

City of Wadsworth, Ohio; Notice of Teleconference

a. Project Name and Number: R.C. Byrd Hydroelectric Project No. 12796.

b. Date and Time of Meeting: Thursday, April 28, 2016 at 1:00 p.m. (Eastern Daylight Time).

c. FERC Contact: Andy Bernick, andrew.bernick@ferc.gov or (202) 502-8660.

d. Purpose of Meeting: Commission staff will hold a teleconference to discuss: (1) The Indiana Bat and Northern Long Eared Bat Conservation Plan and Mussel Monitoring and Conservation Plan for the R.C. Byrd Hydroelectric Project, filed in draft form on June 23, 2015, by American Municipal Power, Inc. (or AMP, agent for the City of Wadsworth, Ohio); (2) the report entitled “Examining the Effect of Potential Water Velocities on Mussel Populations at R.C. Byrd Lock and Dam on the Ohio River (ORM 279.2)” prepared for AMP and filed on February 10, 2016; and (3) the current status of resolving the remaining information needs noted in U.S. Fish and Wildlife Service's Ohio Ecological Services Field Office and West Virginia Field Office comments on the draft plans filed August 26, 2015.

e. All local, state, and federal agencies, Indian tribes, and other interested parties are invited to participate by phone. Please call Andy Bernick at (202) 502-8660 by Thursday, April 21, 2016, to RSVP and to receive specific instructions on how to participate.

Dated: March 29, 2016.
Nathaniel J. Davis, Sr.,
Deputy Secretary.

[FR Doc. 2016-07533 Filed 4-1-16; 8:45 am]

BILLING CODE 6717-01-P